DEPARTMENT OF HOMELAND SECURITY

Federal Emergency Management Agency

Radiological Emergency Preparedness: Review of Exercise Evaluation Criteria and Methodology

AGENCY: Federal Emergency Management Agency, Emergency Preparedness and Response Directorate, Department of Homeland Security.

ACTION: Notice.

SUMMARY: The Federal Emergency Management Agency (FEMA) is announcing the opening of a 60-day comment period for a review of FEMA's radiological emergency preparedness (REP) exercise evaluation criteria and methodology. FEMA published a Federal Register notice entitled “Radiological Emergency Preparedness: Exercise Evaluation Methodology” at 66 FR 47526, September 12, 2001, for FEMA's use when evaluating exercises. FEMA published a Federal Register notice with the same title at 67 FR 20580, April 25, 2002, correcting and superseding our notice of September 12, 2001. Since January 1, 2002, FEMA has evaluated REP exercises using the approach and criteria contained in the Federal Register notices, and it is appropriate at this time for FEMA to examine the results of their use. We invite your comments pursuant to our review.

DATES: Please submit your comments on or before November 3, 2003.

ADDRESSES: Please submit your comments to the Rules Docket Clerk, Office of the General Counsel, Federal Emergency Management Agency, 500 C Street, SW., Room 840, Washington DC 20472, or send them by e-mail to rules@fema.gov. Please refer to “REP: Review of Exercise Evaluation Criteria and Methodology” in the subject line of your e-mail or comment letter.

FOR FURTHER INFORMATION CONTACT: Vanessa E. Quinn, Chief, Radiological Emergency Preparedness Branch, Technological Services Division, Federal Emergency Management Agency, 500 C Street SW., Washington DC 20472; (202) 646-3664, or (e-mail) vanessa.quinn@dhs.gov.

SUPPLEMENTARY INFORMATION: FEMA, through its REP program, evaluates exercises of offsite response plans and procedures. The REP exercises test the capability of Offsite Response Organizations, which are the State and local agencies responsible for responding to incidents involving nuclear power plants, to perform in accordance with the provisions of their plans. This activity is undertaken pursuant to FEMA regulations, which appear in 44 CFR part 350, and a Memorandum of Understanding (MOU) between FEMA and the Nuclear Regulatory Commission (NRC), which appears at 44 CFR part 353, appendix A.

In 1996, the FEMA Director announced a strategic review of the REP Program. FEMA then established a Strategic Review Steering Committee (SRSC), with membership from FEMA and the NRC, to carry out the review. The SRSC completed its work in 1999 and forwarded recommendations to FEMA management for implementation. A key SRSC recommendation, strongly supported by the REP community, called for FEMA to streamline its exercise program and change from an objective-based approach to exercise evaluation to a results-oriented approach. FEMA implemented the SRSC's recommendation in a Federal Register notice entitled “Radiological Emergency Preparedness: Exercise Evaluation Methodology” at 66 FR 47526, September 12, 2001, for FEMA's use when evaluating exercises. FEMA published a Federal Register notice of the same title at 67 FR 20580, April 25, 2002, correcting and superseding our notice of September 12, 2001.

The new approach and criteria have been in effect for over a year, and it is appropriate at this time to examine the results of their use. We are requesting comments on specific criteria that might require some fine-tuning, as well as comments on the efficacy of the outcome-oriented methodology. The April 25, 2002, notice containing the criteria and methodology subject to review is posted on the REP home page at http://www.fema.gov/rrr/rep/repfrn.shtm#eval.

Coordination With the Nuclear Regulatory Commission

FEMA conducts the REP program in part under authority of an MOU with the NRC. The text of the current MOU is published in appendix A to 44 CFR part 353. Section E of the MOU provides that each agency will provide an opportunity for the other agency to review and comment on emergency planning and preparedness guidance (including interpretations of agreed joint guidance) prior to adoption as formal agency guidance. FEMA has transmitted a copy of this document to the NRC and requested their comments no later than the date upon which the public comment period closes.

Dated: August 12, 2003.
Michael D. Brown,
Under Secretary, Emergency Preparedness & Response.

[FR Doc. 03-22259 Filed 8-29-03; 8:45 am]

BILLING CODE 6718-06-P